DEPARTMENT OF ENERGY

Federal Energy Regulatory Commission

[Docket Nos. ER00-2268-003, ER00-2268-005, ER00-2268-006, ER00-2268-007, ER00-2268-008, ER00-2268-010, ER00-2268-012, ER00-2268-013, EL05-10-000, EL05-10-002, EL05-10-004, ER99-4124-001, ER99-4124-003, ER99-4124-004, ER99-4124-005, ER99-4124-006, ER99-4124-008, ER99-4124-010, ER99-4124-011, EL05-11-000, EL05-11-002, EL05-10-004, ER00-3312-002, ER00-3312-004, ER00-3312-005, ER00-3312-006, ER00-3312-007, ER00-3312-009, ER00-3312-011, ER00-3312-012, EL05-12-000, EL05-12-002, EL05-12-004, ER99-4122-004, ER99-4122-006, ER99-4122-007, ER99-4122-008, ER99-4122-009, ER99-4122-011, ER99-4122-013, ER99-4122-014, EL05-13-000, EL0513-002, EL05-13-004, and ER03-352-003]

Pinnacle West Capital Corporation, Arizona Public Service Company, Pinnacle West Energy Corporation, APS Energy Services Company, Inc., and GenWest LLC; Notice of Meeting

June 17, 2005.

Take notice that a meeting will be held on Monday, June 27, 2005, at 10 a.m. (EDT), in a room to be designated at the Federal Energy Regulatory Commission, 888 First Street, NE., Washington, DC 20426.

The purpose of the meeting will be to discuss the revised compliance filings made in the above referenced proceedings, as well as matters related to staff's data request issued on June 8, 2005, in these proceedings.

Participation in this meeting will be limited to interested parties who have requested and been granted access to critical energy infrastructure information (CEII) in accordance with 18 CFR 388.113(d). The CEII request form may be found at http://www.ferc.gov/help/how-to/ceii-req-form.doc. All CEII requests must be received no later than 5 p.m. (EDT) on June 22, 2005. Requesters will be required to sign a non-disclosure agreement prior to obtaining access to CEII. Representatives of the Pinnacle West Companies will be granted access in accordance with 18 CFR 388.113(d)(1) without having to file a formal CEII request or non-disclosure agreement.

FERC conferences are accessible under section 508 of the Rehabilitation Act of 1973. For accessibility accommodations please send an e-mail to accessibility@ferc.gov or call toll free (866) 208-3372 (voice) or (202) 208-1659 (TTY), or send a fax to (202) 208-2106 with the required accommodations.

For additional information regarding the meeting, please contact Cynthia Henry at Cynthia.Henry@ferc.gov no later than 5 p.m. (EDT) Thursday, June 23, 2005, for further information on participating in the meeting.

Magalie R. Salas,
Secretary.

[FR Doc. E5-3290 Filed 6-23-05; 8:45 am]

BILLING CODE 6717-01-P